BROADCASTING BOARD OF GOVERNORS

Government in the Sunshine Act Meeting Notice

DATE AND TIME: Wednesday, November 14, 2018, 10:00 a.m. ET.

PLACE: Middle East Broadcasting Networks, Suite D, 7600 Boston Blvd, Springfield, VA 22153.

Subject: Notice of meeting of the Broadcasting Board of Governors.

SUMMARY: The Broadcasting Board of Governors (Board) will be meeting at the time and location listed above. The Board will vote on a consent agenda consisting of the minutes of its September 5, 2018 meeting, a resolution honoring the 20th anniversary of Radio Free Europe/Radio Liberty broadcasting in the Persian language, and a proposed Board meeting dates in 2019. The Board will receive a report from the Chief Executive Officer and Director of U.S. Agency for Global Media (USAGM).

This meeting will be available for public observation via streamed webcast, both live and on-demand, on the agency's public website at www.bbg.gov. Information regarding this meeting, including any updates or adjustments to its starting time, can also be found on the agency's public website.

The public may also attend this meeting in person at the address listed above as seating capacity permits. Members of the public seeking to attend the meeting in person must register at https://bbgboardmeetingnovember2018.eventbrite.com by 12:00 p.m. (ET) on November 13.

For more information, please contact USAGM Public Affairs at (202) 203-4400 or by email at pubaff@usagm.gov.

CONTACT PERSON FOR MORE INFORMATION: Persons interested in obtaining more information should contact Oanh Tran at (202) 203-4545.

Oanh Tran,
Managing Director.

[FR Doc. 2018-24827 Filed 11-8-18; 4:15 pm]

BILLING CODE 8610-01-P